SMALL BUSINESS ADMINISTRATION

[Disaster Declaration #13614 and #13615]

Illinois Disaster Number IL-00042

AGENCY: U.S. Small Business Administration.

ACTION: Amendment 2.

SUMMARY: This is an amendment of the Presidential declaration of a major disaster for Public Assistance Only for the State of Illinois (FEMA-4116-DR), dated 06/06/2013.

Incident: Severe Storms, Straight-line Winds and Flooding.

Incident Period: 04/16/2013 through 05/05/2013.

Effective Date: 06/20/2013.

Physical Loan Application Deadline Date: 08/05/2013.

Economic Injury (EIDL) Loan Application Deadline Date: 03/06/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Illinois, dated 06/06/2013, is hereby amended to include the following areas as adversely affected by the disaster.

Primary Counties: Brown.

All other information in the original declaration remains unchanged.

(Catalog of Federal Domestic Assistance Numbers 59002 and 59008)

Roger B. Garland,
Acting Associate Administrator for Disaster Assistance.

[FR Doc. 2013-15403 Filed 6-26-13; 8:45 am]

BILLING CODE 8025-01-P